DEPARTMENT OF COMMERCE

National Oceanic and Atmospheric Administration

RIN 0648-XV86

Western Pacific Fishery Management Council; Public Meetings

AGENCY: National Marine Fisheries Service (NMFS), National Oceanic and Atmospheric Administration (NOAA), Commerce.

ACTION: Notice of public meetings.

SUMMARY: The Western Pacific Fishery Management Council (Council) will hold a meeting of its Community Demonstration Project Program advisory panel (CDPP AP) to review and rank proposals submitted in response to solicitations for Marine Education and Training Program and Western Pacific Community Demonstration Project Program for Council review.

DATES: The CDPP AP will meet on May 4, 2010, from 9 a.m. to 5 p.m. and May 5, 2010, from 9 a.m. to 5 p.m.

ADDRESSES: The CDPP will meet at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The agenda for the Advisory Panel meetings will include the items listed below:

Tuesday, May 4, 2010, 9 a.m. - 5 p.m.

1. Introduction of attendees

2. Overview of Council and CDPP AP process

3. Overview of CDPP AP role and responsibilities

a. Review Community Development Program criteria

b. Review of Marine Education and Training (MET) program

c. Review of Community Demonstration Project Program (CDPP)

4. Review MET solicitation

a. Program criteria

b. Eligibility criteria

c. Selection criteria

5. Review and rank MET proposals

6. Discussion and wrap-up

Wednesday, May 5, 2010, 9 a.m. - 5 p.m.

7. Review CDPP solicitation

a. Program criteria

b. Eligibility criteria

c. Selection criteria

8. Review and rank CDPP proposals

9. Discussion and wrap-up

10. Advisor Discussion and Recommendations

11. Other business

The order in which the agenda items are addressed may change. The AP will meet as late as necessary to complete scheduled business.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 13, 2010.
Tracey L. Thompson,
Acting Director, Office of Sustainable Fisheries, National Marine Fisheries Service.

[FR Doc. 2010-8711 Filed 4-15-10; 8:45 am]

BILLING CODE 3510-22-S